DEPARTMENT OF AGRICULTURE

Food and Nutrition Service

Agency Information Collection Activities: Proposed Collection; Comment Request—Review of Major Changes in the Supplemental Nutrition Assistance Program (SNAP)

AGENCY: Food and Nutrition Service (FNS), USDA.

ACTION: Notice.

SUMMARY: In accordance with the Paperwork Reduction Act of 1995, this notice invites the general public and other public agencies to comment on the proposed information collection. This is a reinstatement, with change, of a previously approved collection for which approval has expired. The previously approved collection is associated with State agencies notifying FNS of and thereafter reporting on Major Changes in their operation of SNAP. The final rule entitled Supplemental Nutrition Assistance Program: Review of Major Changes in Program Design and Management Evaluation Systems was published on January 19, 2016. The Office of Management and Budget (OMB) cleared the associated information collection requirements (ICR) on March 10, 2016.

DATES: Written comments must be received on or before September 9, 2019.

ADDRESSES: Comments may be submitted in writing by one of the following methods:

• Preferred Method: Federal eRulemaking Portal: Go to http://www.regulations.gov. Follow the online instructions for submitting comments.

• Mail: Send comments to Program Design Branch, Program Development Division, FNS, 3101 Park Center Drive, Room 800, Alexandria, Virginia 22302.

• All written comments submitted in response to this information collection will be included in the record and will be made available to the public. Please be advised that the substance of the comments and the identity of the individuals or entities submitting the comments will be subject to public disclosure. FNS will make the written comments publicly available on the internet via http://www.regulations.gov. All written comments will be open for public inspection at the FNS office during regular business hours (8:30 a.m. to 5:00 p.m., Monday through Friday) at 3101 Park Center Drive, Room 800, Alexandria, Virginia 22302. All responses to this notice will be summarized and included in the request for OMB approval. All comments will be a matter of public record.

FOR FURTHER INFORMATION CONTACT: Requests for additional information should be directed to Ms. Mary Rose Conroy at (703) 305-2803.

SUPPLEMENTARY INFORMATION: Comments are invited on: (a) Whether the proposed collection of information is necessary for the proper performance of the functions of the agency, including whether the information shall have practical utility; (b) the accuracy of the agency's estimate of the burden of the proposed collection of information including the validity of the methodology and assumptions used; (c) ways to enhance the quality, utility, and clarity of the information to be collected; (d) ways to minimize the burden of the collection of information on those who respond, including through the use of appropriate automated, electronic, mechanical, or other technological collection techniques or other forms of information technology.

Title: Review of Major Changes in Program Design.

OMB Number: 0584-0579.

Expiration Date: 5/31/2019.

Type of Request: Reinstatement, with change, of a previously approved collection for which approval has expired.

Abstract: Section 11 of the Act (7 U.S.C. 2020) requires the Department to develop standards for identifying major changes in the operations of State agencies that administer SNAP. Regulations at 7 CFR 272.15 require State agencies to notify the Department when planning to implement a major change in operations and State agencies to collect any information required by the Department to identify and correct any adverse effects on program integrity or access, including access by vulnerable households. Since these rules have been in effect for about two years, FNS has gained experience with the number and type of major changes States have reported. However, since decisions to make major changes to program operations rest with each individual State agency, the frequency and timing of future major changes can only be estimated based upon the last two years of FNS' experience.

Regulations at 7 CFR 272.15(a)(3) require States to provide both descriptive and analytic information regarding the major change. We estimate it takes 8 hours to describe the change and 32 hours to complete the required analysis for a total of 40 hours per response. State agencies are required to provide descriptive information regarding the major change together with an analysis of its projected impacts on program operations. The regulations also set out requirements for the State to collect and report additional monthly information collected and gathered at the program/State levels that are submitted on a quarterly basis to FNS. Reporting continues for at least a year after the change is completely implemented. It is not uncommon for a State to pilot a change prior to statewide implementation. FNS can require information from the pilot to be submitted to FNS as well as information regarding the statewide impacts of the change after full implementation.

There are six categories of major changes: (1) Changes to the States automated system, (2) changing the responsibilities of merit system personnel, (3) office closings, (4) reductions in State SNAP merit system personnel, (5) changes that may make it more difficult for households to report and (6) an undefined “other” category.

Once a State has triggered one of the six criteria, the State is required to report the “automatic” information as required in § 272.15(b)(2)-(4) and FNS must determine what, if any, additional data the State will be required to collect and report as provided for in § 272.15(b)(5). FNS has determined the automatic reporting requirements and its ongoing data collection it requires will be sufficient to provide to FNS the needed information on a major change. Additional data will occasionally need to be generated from States' automated eligibility systems or gathered by conducting additional case review surveys.

Based upon FNS' experience over the last two years, out of 53 State agencies this data collection impacts, FNS estimates only 10 States to submit major changes annually. The total estimated burden hours associated with the Major Change requirements since the final rule are being revised from 9,663.75 to 2,160. While the number of expected major changes States are expected to report annually is revised from 22.5 to 20, most of the decrease is based due to the initial overestimated need for additional reporting beyond the “automatic” provisions of the rule. The final rule estimated that 6.75 States would be required to gather and report additional data, while to date FNS has not required this of any State so the estimate has been revised to one (1) State annually will gather and report additional data to FNS. This correction accounts for a decrease in hours from 7,377 in the final rule to 896 in this notice.

Affected Public: State, Local and Tribal governments.

Estimated Number of Respondents: 10 States per year.

Estimated Number of Responses per Respondent: 5.

Estimated Total Annual Responses: 50.

Estimated Time per Response: 43.2 hours (average).

Estimated Total Annual Burden on Respondents: 2,160.

While FNS' experience has resulted in a change to the number of Major Changes FNS expects States to report annually and the number that will require additional reporting, there is no basis to change original estimates of time/staff needed by States to complete the required notification reports. Thus, with an estimated 10 States reporting one major change per year (based upon the last two years), the initial reporting and analysis aspect of the rulemaking would be 10 annual responses × 40 hours per initial response per State = an estimated 400 burden hours per year.

In terms of State reporting after the initial notification, no additional reporting has been required beyond the automatic reporting requirements. Therefore, FNS is projecting that for nine of the ten major changes expected each year there would be no additional reporting burden beyond the automatic reporting. All 10 of the major changes estimated each year are expected to require some automated system reprogramming to generate the required automatic data reporting. At 48 hours per reprogramming effort, this would be 480 hours per year (10 × 48). Preparing the 40 quarterly reports are estimated to require 12 hours each. The total for the 10 States would be 480 + 480 hours = 960 total hours for reporting (divided by the 10 states = 96 hours per State per year).

For the 1 State projected to require additional data collection, this requirement would be in addition to the 960 hours above. Such data will generally be collected through a sample of case reviews. While the required sample sizes may vary based on the type of major change and the proportion of the State's SNAP caseload it may affect, 200 cases per quarter would likely be an upper limit on what FNS could ask of a State. At an estimated one hour to review and report on a case, this would require 800 hours per year for one State each year. When the 400 hours for notifications and the 960 hours are added for the automatic information, the total for the 10 States is 2,160 (or 216 hours per State per year).

With all 10 States reporting quarterly, there would be 40 responses annually. One of the 40 reports would contain additional information from sample data.

Section | Requirement | States responding per year | Responses per respondent | Number of responses | Hours per response | Total burden hours
272.15(a)(3) | Initial analysis of Major Change | 10 | 1 | 10 | 40 | 400
272.15(b)(2)-(4) | Reports required without additional data collection | 9 | 4 | 36 | 24 | 864
272.15(b)(5) | Reports required with additional data collection | 1 | 4 | 4 | 224 | 896
Totals |  | 10 | * 5 | 50 | * 43.2 | 2,160
(average)

Dated: June 28, 2019.
Brandon Lipps,
Administrator, Food and Nutrition Service.

[FR Doc. 2019-14696 Filed 7-9-19; 8:45 am]

BILLING CODE 3410-30-P